DEPARTMENT OF TRANSPORTATION

Federal Highway Administration

[Docket No. FHWA-2008-0088]

Agency Information Collection Activities: Notice of Request for Extension of Currently Approved Information Collection

AGENCY: Federal Highway Administration (FHWA), DOT.

ACTION: Notice and request for comments.

SUMMARY: The FHWA has forwarded the information collection request described in this notice to the Office of Management and Budget (OMB) to renew an information collection. We published a Federal Register Notice with a 60-day public comment period on this information collection on March 28, 2008. We are required to publish this notice in the Federal Register by the Paperwork Reduction Act of 1995.

DATES: Please submit comments by August 4, 2008.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2008-0088.

FOR FURTHER INFORMATION CONTACT: Mr. Kreig Larson, 202-366-2056, Office of Project Development and Environmental Review, Office of Planning and Environment, Federal Highway Administration, Department of Transportation, 1200 New Jersey Avenue, SE., Washington, DC 20590. Office hours are from 8 a.m. to 4:30 p.m., Monday through Friday, except Federal holidays.

SUPPLEMENTARY INFORMATION: Title: Environmental Streamlining: Measuring the Performance of Stakeholders in the Transportation Project Development Process, Third Survey.

OMB Control Number: 2125-0591.

Background: The U.S. Department of Transportation (DOT), FHWA, has contracted with the Gallup Organization to conduct a survey of professionals associated with transportation and resource agencies in order to gather their views about the workings of the environmental review process for transportation projects and how the process can become more efficient. The purpose of the survey is to: (1) Collect the responses of agency professionals to questions about their involvement in conducting the decision-making processes mandated by the National Environmental Policy Act (NEPA) and other resource protection laws in order to develop benchmark performance measures; and (2) identify where the performance of the process might be improved by the application of techniques for streamlining. This is a survey conducted of only local, state, and federal officials who work with the NEPA process.

Respondents: Approximately 2,000 professionals/officials from transportation and natural resource agencies.

Frequency: This is the third time in seven years that this survey will be conducted.

Estimated Average Burden per Response: Annual Burden Hours: The FHWA estimates that each respondent will complete the survey in approximately 15 minutes. Respondents will have the option of answering the survey's questions either over the telephone or online.

Estimated Total Annual Burden Hours: With a potential total of 2,000 survey respondents, an estimated 500 hours is the total burden.

Electronic Access: For access to the docket to read background documents or comments received, go to http://www.regulations.gov. Follow the online instructions for accessing the dockets.

Authority: The Paperwork Reduction Act of 1995; 44 U.S.C. Chapter 35, as amended; and 49 CFR 1.48.

Issued on: June 30, 2008.
James R. Kabel,
Chief, Management Programs and Analysis Division.

[FR Doc. E8-15146 Filed 7-2-08; 8:45 am]

BILLING CODE 4910-22-P